DEPARTMENT OF HOMELAND SECURITY

U.S. Citizenship and Immigration Services

[OMB Control Number 1615-0124]

Agency Information Collection Activities; Withdrawal of 60-Day Notice: Consideration of Deferred Action for Childhood Arrivals

ACTION: Notice; withdrawal.

SUMMARY: The Department of Homeland Security (DHS), U.S. Citizenship and Immigration Services (USCIS) is withdrawing the Federal Register Notice published on November 13, 2020.

DATES: December 31, 2020.

FOR FURTHER INFORMATION CONTACT: USCIS, Office of Policy and Strategy, Regulatory Coordination Division, Samantha Deshommes, Chief, telephone number (240) 721-3000 (This is not a toll-free number.). It is not for individual case status inquiries. Applicants seeking information about the status of their individual cases can check Case Status Online, available at the USCIS website at https://www.uscis.gov, or call the USCIS Contact Center at 800-375-5283 (TTY 800-767-1833).

SUPPLEMENTARY INFORMATION: In a notice published in the Federal Register of November 13, 2020 (85 FR 72682), “Agency Information Collection Activities; Revision of a Currently Approved Collection; Consideration of Deferred Action for Childhood Arrivals”, USCIS requested comment on the information collection activity.

Under the Paperwork Reduction Act of 1995 (PRA), Federal Agencies are required to publish notice in the Federal Register concerning each proposed collection of information, including each proposed extension of an existing collection of information, and to allow 60 days for public comment in response to the notice.

USCIS recently announced that in compliance with an order of a United States District Court, effective December 7, 2020, USCIS is accepting first-time requests for consideration of deferred action under Deferred Action for Childhood Arrivals (DACA) based on the terms of the DACA policy in effect prior to September 5, 2017, and in accordance with the Court's December 4, 2020, order;. See, Batalla Vidal et al v. Wolf et al, 1:16-cv-04756-NGG-VMS (E.D. N.Y., Dec. 4, 2020). DHS will comply with the order while it remains in effect, but DHS may seek relief from the order. In light of these developments and their implications for revising the USCIS Form I-821D as planned with the November 13, 2020 Federal Register Notice, USCIS has decided not to seek to revise the collection of information at this time and will instead continue to maintain the form in its current state. USCIS will extend, without change, the currently approved collection of information and will use the notice provided on July 20, 2020 (85 FR 46882) that sought comments for 60 days. USCIS will be publishing a separate 30-day Federal Register notice seeking comment on the extension and submitting the information collection request to the Office of Management and Budget (OMB) for review and clearance in accordance with the Paperwork Reduction Act of 1995.

Dated: December 23, 2020.
Samantha L. Deshommes,
Chief, Regulatory Coordination Division, Office of Policy and Strategy, U.S. Citizenship and Immigration Services, Department of Homeland Security.

[FR Doc. 2020-28924 Filed 12-30-20; 8:45 am]

BILLING CODE 9111-97-P